DEPARTMENT OF COMMERCE

International Trade Administration

[A-423-808]

Stainless Steel Plate in Coils from Belgium: Notice of Rescission of Antidumping Duty Administrative Review

AGENCY: Import Administration, International Trade Administration, Department of Commerce.

EFFECTIVE DATE: October 14, 2009.

FOR FURTHER INFORMATION CONTACT: Joy Zhang or George McMahon, AD/CVD Operations, Office 3, Import Administration, International Trade Administration, U.S. Department of Commerce, 14th Street and Constitution Avenue, NW, Washington, DC 20230; telephone: (202) 482-1168 or (202) 482-1167, respectively.

SUPPLEMENTARY INFORMATION:

Background

On May 1, 2009, the Department of Commerce (the Department) published in the Federal Register a notice of “Opportunity to Request Administrative Review” of the antidumping duty order on stainless steel plate in coils from Belgium for the period of review (POR), May 1, 2008, through April 30, 2009. See Antidumping or Countervailing Duty Order, Finding, or Suspended Investigation; Opportunity To Request Administrative Review, 74 FR 20278 (May 1, 2009).

On June 1, 2009, in accordance with 19 CFR § 351.213(b), the Department received a timely request from ArcelorMittal Stainless Belgium N.V. (AMS Belgium) to conduct an administrative review of AMS Belgium. AMS Belgium was the only party to request this administrative review.

On June 24, 2009, the Department published in the Federal Register a notice of initiation of an administrative review of the antidumping duty order on stainless steel plate in coils from Belgium covering one respondent, AMS Belgium. See Initiation of Antidumping and Countervailing Duty Administrative Reviews and Requests for Revocation in Part, 74 FR 30052 (June 24, 2009).

On September 22, 2009, AMS Belgium timely withdrew its request for review. Thus, we are rescinding this administrative review.

Rescission of Administrative Review

Pursuant to 19 CFR § 351.213(d)(1), the Secretary will rescind an administrative review, in whole or in part, if the parties that requested a review withdraw the request within 90 days of the date of publication of the notice of initiation of the requested review. On September 22, 2009, AMS Belgium withdrew its request for an administrative review. AMS Belgium withdrew its request before the 90-day deadline, and no other party requested an administrative review of the antidumping duty order on stainless steel plate in coils from Belgium for the POR. Therefore, in response to AMS Belgium's withdrawal of its request for review, and pursuant to 19 CFR § 351.213(d)(1), the Department rescinds the administrative review of the antidumping duty order on stainless steel plate in coils from Belgium for the period May 1, 2008, through April 30, 2009.

Notification to Importers

This notice serves as a reminder to importers of their responsibility under 19 CFR § 351.402(f)(2) to file a certificate regarding the reimbursement of antidumping duties prior to liquidation of the relevant entries during this review period. Failure to comply with this requirement could result in the Secretary's presumption that reimbursement of antidumping duties occurred and the subsequent assessment of double antidumping duties.

Notification Regarding Administrative Protective Order

This notice serves as a final reminder to parties subject to administrative protective orders (APO) of their responsibility concerning the disposition of proprietary information disclosed under an APO in accordance with 19 CFR § 351.305(a)(3). Timely written notification of the return/destruction of APO materials or conversion to judicial protective order is hereby requested. Failure to comply with the regulations and terms of an APO is a sanctionable violation.

We have been enjoined from liquidating entries of the subject merchandise produced and exported by Ugine & ALZ Belgium N.V (U&A Belgium). Therefore, we do not intend to issue liquidation instructions to U.S. Customs and Border Protection (CBP) for entries made during the period May 1, 2008, through April 30, 2009, until such time the preliminary injunction issued on January 16, 2009, is lifted.

This notice is in accordance with section 777(i)(1) of the Tariff Act of 1930, as amended, and 19 CFR § 251.213(d)(4).

Dated: October 7, 2009.
John M. Andersen,
Acting Deputy Assistant Secretary for Antidumping and Countervailing Duty Operations.

[FR Doc. E9-24701 Filed 10-13-09; 8:45 am]

BILLING CODE 3510-DS-S